DEPARTMENT OF DEFENSE

Office of the Secretary

Strategic Environmental Research and Development Program, Scientific Advisory Board; Notice of Federal Advisory Committee Meeting

AGENCY: Department of Defense.

ACTION: Notice.

SUMMARY: The Department of Defense is publishing this notice to announce an open meeting of the Strategic Environmental Research and Development Program, Scientific Advisory Board (SAB). The purpose of the meeting is to review new start research and development projects requesting Strategic Environmental Research and Development Program funds in excess of $1 million over the proposed length of the project.

DATES: Tuesday, December 17, 2013, from 9:00 a.m. to 5:00 p.m. and Wednesday, December 18, 2013, from 8:30 a.m. to 5:05 p.m.

ADDRESSES: Holiday Inn Ballston, 4610 North Fairfax Drive, Arlington, VA 22203.

FOR FURTHER INFORMATION CONTACT: Mr. Jonathan Bunger, SERDP Office, 4800 Mark Center Drive, Suite 17D08, Alexandria, VA 22350-3605; or by telephone at (571) 372-6384.

SUPPLEMENTARY INFORMATION: This meeting is being held under the provisions of the Federal Advisory Committee Act of 1972 (5 U.S.C. Appendix, as amended), the Government in the Sunshine Act of 1976 (5 U.S.C. 552b, as amended), and 41 CFR 102-3.150. This notice is published in accordance with Section 10(a)(2) of the Federal Advisory Committee Act (Pub. L. 92-463).

Pursuant to 5 U.S.C. 552b and 41 CFR 102-3.140 through 102-3.165, and the availability of space, this meeting is open to the public. Seating is on a first-come basis.

The purpose of the December 17-18, 2013 meeting is to review new start research and development projects requesting Strategic Environmental Research and Development Program funds in excess of $1 million over the proposed length of the project as required by the SERDP Statute, U.S. Code—Title 10, Subtitle A, Part IV, Chapter 172, § 2904. The full agenda follows:

Tuesday, December 17, 2013
9:00 a.m. | Convene/Opening Remarks, Approval of September 2013 Minutes | Mr. Joseph Francis, Chair.
9:10 a.m. | Program Update | Dr. Anne Andrews, Acting Executive Director.
9:25 a.m. | Munitions Response Overview | Dr. Herb Nelson, Munitions Response Program Manager.
9:35 a.m. | 14 MR01-017 (MR-2410)—FY14 New Start, Large-Scale Laboratory Experiments of Incipient Motion, Transport, and Fate of Underwater Munitions under Waves, Currents, and Combined-Flows | Dr. Marcelo Garcia, University of Illinois at Urbana-Champaign, Urbana, IL.
10:20 a.m. | Break. |
10:35 a.m. | 14 MR01-009 (MR-2439)—FY14 New Start, Multipass and Non-Concentric Target CSAS | Dr. Jermaine Kennedy, NSWC-PCD, Panama City Beach, FL.
11:20 a.m. | Resource Conservation and Climate Change Overview | Dr. John Hall, Resource Conservation and Climate Change Program Manager.
11:30 a.m. | 14 RC01-015 (RC-2434)—FY14 Re-Brief, Seed Dispersal Networks and Novel Ecosystem Functioning in Hawaii | Dr. Jeffrey Foster, Northern Arizona University, Flagstaff, AZ.
12:00 p.m. | Lunch. |
1:00 p.m. | Environmental Restoration Overview | Dr. Andrea Leeson, Environmental Restoration Program Manager.
1:05 p.m. | 14 ER02-023 (ER-2423)—FY14 New Start, In Situ Treatment Train for Remediation of Perfluoroalkyl Contaminated Groundwater: In Situ Chemical Oxidation of Sorbed Contaminants (ISCO-SC) | Dr. Michelle Crimi, Clarkson University, Potsdam, NY.
1:55 p.m. | 14 ER02-030 (ER-2424)—FY14 New Start, Investigating Electrocatalytic and Catalytic Approaches for In Situ Treatment of Perfluoroalkyl Contaminants in Groundwater | Dr. Charles Schaefer, CB&I Federal Services, Lawrenceville, NJ.
2:40 p.m. | Break. |
2:55 p.m. | 14 ER02-031 (ER-2425)—FY14 New Start, Development of a Novel Approach for In Situ Remediation of PFC Contaminated Groundwater Systems | Dr. Matt Simcik, University of Minnesota, Minneapolis, MN.
3:40 p.m. | 14 ER02-041 (ER-2426)—FY14 New Start, Quantification of In Situ Chemical Reductive Defluorination (ISCRD) of Perfluoroalkyl Acids in Ground Water Impacted by AFFFs | Dr. Linda Lee, Purdue University, West Lafayette, IN.
4:25 p.m. | Strategy Session | Dr. Anne Andrews, Acting Executive Director.
5:00 p.m. | Public Discussion/Adjourn for the day. |
Wednesday, December 18, 2013
8:30 a.m. | Convene | Mr. Joseph Francis, Chair.
8:40 a.m. | Weapons Systems and Platforms Overview | Dr. Anne Andrews, Acting Executive Director.
8:50 a.m. | 14 WP04-002 (WP-2405)—FY14 New Start, Proof of Concept Novel Low-Toxicity Obscurant | Dr. Joost van Lingen, TNO, Rijswijk, Netherlands.
9:35 a.m. | Weapons Systems and Platforms Overview | Dr. Anne Andrews, Acting Executive Director.
9:45 a.m. | 14 WP01-009 (WP-2400)—FY14 New Start, Environmentally Sustainable Liquid Gas Generator Formulations | Dr. Gary Holland, Aerojet General Corporation, Redmond, WA.
10:30 a.m. | Break. |
10:45 a.m. | 14 WP01-011 (WP-2401)—FY14 New Start, Development of Low-Toxicity Liquid Propellant System for Orbital/Sub-Orbital Applications | Mr. Joseph Clubb, Naval Air Warfare Center, China Lake, CA.
11:30 a.m. | Lunch. |
12:30 p.m. | Environmental Restoration Overview | Dr. Andrea Leeson, Environmental Restoration Program Manager.
12:40 p.m. | 14 ER03-002 (ER-2427)—FY14 New Start, Understanding the Relationships Among Low Level Metal Influx, Remediated Sediments, and Biological Receptors | Dr. Anna Knox, Savannah River National Laboratory, Aiken, SC.
1:25 p.m. | 14 ER03-025 (ER-2428)—FY14 New Start, Assessment and Management of Stormwater Impacts on Sediment Recontamination | Dr. Danny Reible, Texas Tech University, Lubbock, TX.
2:10 p.m. | Break. |
2:25 p.m. | 14 ER03-028 (ER-2429)—FY14 New Start, Combining Mass Balance Modeling with Passive Sampling at Contaminated Sediment Sites to Evaluate Continuing Inputs and Food Web Responses to Remedial Actions | Dr. Philip Gschwend, Massachusetts Institute of Technology, Cambridge, MA.
3:10 p.m. | 14 ER03-035 (ER-2431)—FY14 New Start, Quantitative Thermodynamic Exposure Assessment (Q-TEA) Supporting Resilient Contaminated Sediment Site Restoration | Dr. Todd Bridges, USACE-ERDC-EL, Vicksburg, MS.
3:55 p.m. | Break. |
4:10 p.m. | Environmental Restoration Overview | Dr. Andrea Leeson, Environmental Restoration Program Manager.
4:20 p.m. | 14 ER04-001 (ER-2135)—FY14 Follow On, Application of Biofilm Covered Activated Carbon Particles as a Microbial Inoculum Delivery System in Weathered PCB Contaminated Sediment | Dr. Birthe Kjellerup, Goucher College, Baltimore, MD.
5:05 p.m. | Public Discussion/Adjourn. |

Pursuant to 41 CFR 102-3.105(j) and 102-3.140, and section 10(a)(3) of the Federal Advisory Committee Act of 1972, the public or interested organizations may submit written statements to the Strategic Environmental Research and Development Program, Scientific Advisory Board. Written statements may be submitted to the committee at any time or in response to an approved meeting agenda.

All written statements shall be submitted to the Designated Federal Officer (DFO) for the Strategic Environmental Research and Development Program, Scientific Advisory Board. The DFO will ensure that the written statements are provided to the membership for their consideration. Contact information for the DFO can be obtained from the GSA's FACA Database at http://facasms.fido.gov/.

Time is allotted at the close of each meeting day for the public to make comments. Oral comments are limited to 5 minutes per person.

Dated: November 12, 2013.
Aaron Siegel,
Alternate OSD Federal Register Liaison Officer, Department of Defense.

[FR Doc. 2013-27378 Filed 11-14-13; 8:45 am]

BILLING CODE 5001-06-P